NATIONAL SCIENCE FOUNDATION

Agency Information Collection Activities: Comment Request

AGENCY: National Science Foundation.

ACTION: Submission for OMB review; comment request.

SUMMARY: The National Science Foundation (NSF) has submitted the following information collection requirement to OMB for review and clearance under the Paperwork Reduction Act of 1995. This is the second notice for public comment; the first was published in the Federal Register and two were received. NSF is forwarding the proposed renewal submission to the Office of Management and Budget (OMB) for clearance simultaneously with the publication of this second notice.

DATES: Written comments and recommendations for the proposed information collection should be sent within 30 days of publication of this notice to www.reginfo.gov/public/do/PRAmain. Find this particular information collection by selecting “Currently under 30-day Review—Open for Public Comments” or by using the search function.

FOR FURTHER INFORMATION CONTACT: Suzanne H. Plimpton, Reports Clearance Officer, National Science Foundation, 2415 Eisenhower Avenue, Alexandria, VA 22314, or send email to splimpto@nsf.gov. Individuals who use a telecommunications device for the deaf (TDD) may call the Federal Information Relay Service (FIRS) at 1-800-877-8339, which is accessible 24 hours a day, 7 days a week, 365 days a year (including federal holidays). Comments regarding this information collection are best assured of having their full effect if received within 30 days of this notification. Copies of the submission(s) may be obtained by calling 703-292-7556.

NSF may not conduct or sponsor a collection of information unless the collection of information displays a currently valid OMB control number, and the agency informs potential persons who are to respond to the collection of information that such persons are not required to respond to the collection of information unless it displays a currently valid OMB control number.

SUPPLEMENTARY INFORMATION: Summary of Comments on the Survey of Doctorate Recipients and NSF's Responses: As required by 5 CFR 1320.8(d), comments on the information collection activities as part of this study were solicited through the publication of a 60-Day Notice in the Federal Register on 5 February 2021, at 86 FR 8384. We received two comments. The nature of each comment and our responses are summarized below.

Comment: On 5 February 2021, Dr. Andrew Reamer of George Washington University sent an email to NSF on behalf of the American Economic Association's Committee on Economic Statistics. He requested the draft information collection request (ICR) materials for the 2021 SDR and asked whether any changes were proposed for the 2021 SDR compared to the 2019 SDR.

Response: NSF responded to Dr. Reamer on 2 February 2021, explaining that the 2021 SDR ICR materials were in the process of being prepared and that there were no substantive changes planned. He was directed to the 2019 SDR questionnaires on the NSF website, which would be updated to reflect the survey year. He was also informed that the same instrument, with updates to reflect survey year and modifications to accommodate the circumstances of the coronavirus pandemic, will be used for the 2021 cycle.

Comment: NCSES received a comment on 17 March 2021 from Dr. Jon Freeman representing the American Association for the Advancement of Science (AAAS) and the American Educational Research Association (AERA). The commenters requested that NCSES include measures of sexual orientation and gender identity on the SDR and on other NCSES surveys (specifically, the National Survey of College Graduates and the Survey of Earned Doctorates).

Response: NCSES informed the commenters that it continues to actively engage on the Federal Committee on Statistical Methodology's (FCSM) Working Group on Measuring Sexual Orientation and Gender Identity and described its research efforts for development and fielding possible questionnaire additions to address the topic. NCSES informed the commenters that it does not intend to include these measures in the 2021 SDR.

Title of Collection: 2021 Survey of Doctorate Recipients.

OMB Approval Number: 3145-0020.

Summary of Collection: The purpose of this panel survey is to collect data that will be used to provide national estimates on the doctoral science and engineering workforce and changes in their employment, education, and demographic characteristics. The SDR is sponsored by the National Center for Science and Engineering Statistics (NCSES) within the NSF and by the National Institutes of Health.

The National Science Foundation Act of 1950, as subsequently amended, includes a statutory charge to “. . . provide a central clearinghouse for the collection, interpretation, and analysis of data on scientific and engineering resources, and to provide a source of information for policy formulation by other agencies of the Federal Government.” The SDR is designed to comply with these mandates by providing information on the supply and utilization of the nation's doctoral level scientists and engineers.

Use of the Information: The NSF uses the information from the SDR to prepare congressionally-mandated reports such as Women, Minorities and Persons with Disabilities in Science and Engineering and Science and Engineering Indicators. NCSES also produces, on a biennial basis, a set of statistical tables from the SDR, and publishes statistics from the SDR in other reports.

Expected Respondents: A statistical sample of 130,938 individuals who had earned a research doctorate degree from a U.S. academic institution in the fields of science, engineering, or health (SEH) will be contacted in 2021; these individuals may reside in the U.S. or abroad. As with prior SDR data collection cycles, the sample consists of all eligible cases from the previous cycle, as well as a sample of new doctoral graduates, who received their doctorate between 1 July 2017 and 30 June 2019. In addition, the sample may include 5,000 cases that will be part of a non-production bridge panel designed to quantify the potential impact of question wording modifications on key survey estimates. Another 9% of the production sample may submit an inter-round updated contact form that takes about 3 minutes to complete.

Estimate of Burden: NCSES expects the overall 2021 SDR response rate to be approximately 70 percent. The amount of time to complete the questionnaire may vary depending on an individual's circumstances; however, based on 2019 SDR completion times, NCSES estimates an average completion time of approximately 21 minutes. NCSES estimates that the average annual burden for the 2021 survey cycle over the course of the three-year OMB clearance period will be no more than 10,882 hours [(130,938 individuals × 70% response × 21 minutes) + (125,938 × 9% participation × 3 minutes)]/3 years/60 minutes.

Dated: May 26, 2021.
Suzanne H. Plimpton,
Reports Clearance Officer, National Science Foundation.

[FR Doc. 2021-11493 Filed 5-28-21; 8:45 am]

BILLING CODE 7555-01-P